DEPARTMENT OF ENERGY

Office of Arms Control and Nonproliferation; Proposed Subsequent arrangement

AGENCY: Department of Energy.

ACTION: Subsequent arrangement.

SUMMARY: This notice has been issued under the authority of section 131 of the Atomic Energy Act of 1954, as amended (42 U.S.C. 2160). The Department is providing notice of a proposed “subsequent arrangement” under the Agreement for Cooperation Between the United States and Japan Concerning Peaceful Uses of Nuclear Energy and the Agreement for Cooperation in the Peaceful Uses of Nuclear Energy between the United States and the European Atomic Energy Community (EURATOM).

This subsequent arrangement concerns the retransfer of eight unirradiated mixed-oxide (MOX) fuel assemblies, containing 3,439,377 g of U.S.-origin uranium (9,879 g U-235) and 255,086 g plutonium, from the Kansai Electric Power Co., Inc. to the Euratom Supply Agency. The material, which is currently located at the Takahama Nuclear Power Station Unit 4, Japan, is being returned to British Nuclear Fuels PLC, United Kingdom, because it cannot be utilized as originally intended. Upon its return to British Nuclear Fuels, the material will be stored in an approved facility pending recovery of the plutonium contained in the unirradiated fuel assemblies. The recovered plutonium will be returned to Japan in the form of fresh MOX fuel assemblies.

In accordance with section 131 of the Atomic Energy Act of 1954, as amended, we have determined that this subsequent arrangement is not inimical to the common defense and security.

This subsequent arrangement will take effect no sooner than fifteen days after the date of publication of this notice, and after fifteen days of continuous session of the Congress, beginning the day after the date on which the reports required under section 131 of the Atomic Energy Act, as amended, are submitted to the Committee on Foreign Affairs of the House of Representatives and the Committee on Foreign Relations of the Senate. The two time periods referred to above may run concurrently.

Dated: February 4, 2002.
For the Department of Energy.
Trisha Dedik,
Director, Office of Nonproliferation Policy.

[FR Doc. 02-2954 Filed 2-6-02; 8:45 am]

BILLING CODE 6450-01-P